DEPARTMENT OF TRANSPORTATION

Federal Aviation Administration

14 CFR Part 39

[Docket No. FAA-2024-2015; Project Identifier MCAI-2023-00769-T]

RIN 2120-AA64

Airworthiness Directives; Bombardier, Inc., Airplanes

AGENCY: Federal Aviation Administration (FAA), DOT.

ACTION: Notice of proposed rulemaking (NPRM).

SUMMARY: The FAA proposes to adopt a new airworthiness directive (AD) for certain Bombardier, Inc., Model BD-700-1A10 and BD-700-1A11 airplanes. This proposed AD was prompted by reports of missing or damaged inboard flap seal plate assemblies. This proposed AD would require repetitive inspections for cracks of the attaching angles of the inboard flap seal plates and replacement. This proposed AD would also require the eventual replacement of both inboard flap seal plates, which would terminate the repetitive inspections. The FAA is proposing this AD to address the unsafe condition on these products.

DATES: The FAA must receive comments on this proposed AD by September 23, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2015; or in person at Docket Operations between 9 a.m. and 5 p.m., Monday through Friday, except Federal holidays. The AD docket contains this NPRM, the mandatory continuing airworthiness information (MCAI), any comments received, and other information. The street address for Docket Operations is listed above.

Material Incorporated by Reference:

• For Bombardier material identified in this proposed AD, contact Bombardier Business Aircraft Customer Response Center, 400 Côte-Vertu Road West, Dorval, Québec H4S 1Y9, Canada; telephone 514-855-2999; email ac.yul@aero.bombardier.com; website bombardier.com.

• You may view this material at the FAA, Airworthiness Products Section, Operational Safety Branch, 2200 South 216th St., Des Moines, WA. For information on the availability of this material at the FAA, call 206-231-3195.

FOR FURTHER INFORMATION CONTACT: Yaser Osman, Aviation Safety Engineer, FAA, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under ADDRESSES. Include “Docket No. FAA-2024-2015; Project Identifier MCAI-2023-00769-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Yaser Osman, Aviation Safety Engineer, FAA, 1600 Stewart Avenue, Suite 410, Westbury, NY 11590; telephone 516-228-7300; email 9-avs-nyaco-cos@faa.gov. Any commentary that the FAA receives that is not specifically designated as CBI will be placed in the public docket for this rulemaking.

Background

Transport Canada, which is the aviation authority for Canada, has issued Transport Canada AD CF-2023-42, dated June 19, 2023 (Transport Canada AD CF-2023-42) (also referred to after this as the MCAI), to correct an unsafe condition on certain Bombardier, Inc., Model BD-700-1A10 and BD-700-1A11 airplanes. The MCAI states that there have been multiple reports in service of missing or damaged inboard flap seal plates. An investigation revealed a premature fatigue failure mode of the inboard flap seal plates. Left uncorrected, an inboard flap seal plate may partially or totally detach. Under certain flight conditions, a missing inboard flap seal plate could lead to excessive buffeting and vibration, and consequent damage to the airplane.

The FAA is proposing this AD to address the unsafe condition on these products.

You may examine the MCAI in the AD docket at regulations.gov under Docket No. FAA-2024-2015.

Material Incorporated by Reference Under 1 CFR Part 51

The FAA reviewed Bombardier Service Bulletins 700-27-5509 and 700-27-6509, both Revision 01, both dated May 5, 2023. This material specifies procedures for repetitive detailed inspections for cracks of the attaching angles of the inboard flap seal plates and replacing the inboard flap seal plates if any crack is detected. This material also specifies procedures for replacing both existing inboard flap seal plates with structurally more robust redesigned components. The replacement actions include a detailed visual inspection for damage (including signs of failure, cracking, and deformation) of the flap inboard closing ribs and trailing edges, an eddy current or liquid penetrant inspection for cracks running out of the flap inboard closing rib holes common to the outboard stiffener and angle, and repair for cracks and other damage. The replacement would eliminate the need for the repetitive detailed inspections. These documents are distinct since they apply to different airplane models. This material is reasonably available because the interested parties have access to it through their normal course of business or by the means identified in the ADDRESSES section.

FAA's Determination

This product has been approved by the aviation authority of another country, and is approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would require accomplishing the actions specified in the material already described.

Costs of Compliance

The FAA estimates that this AD, if adopted as proposed, would affect 43 airplanes of U.S. registry. The FAA estimates the following costs to comply with this proposed AD:

Estimated Costs for Required Actions
Labor cost | Parts cost | Cost per product | Cost on U.S. operators
24 work-hours × $85 per hour = $2,040 | $37,919 | $39,959 | $1,718,237

The FAA has received no definitive data on which to base the cost estimates for the repairs specified in this proposed AD.

The FAA has included all known costs in its cost estimate. According to the manufacturer, however, some or all of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bombardier, Inc.: Docket No. FAA-2024-2015; Project Identifier MCAI-2023-00769-T.

(a) Comments Due Date

The FAA must receive comments on this airworthiness directive (AD) by September 23, 2024.

(b) Affected ADs

None.

(c) Applicability

This AD applies to Bombardier, Inc., Model BD-700-1A10 and BD-700-1A11 airplanes, certificated in any category, serial numbers 9861, 9872, 60001 through 60004 inclusive, 60006 through 60023 inclusive, 60025 through 60029 inclusive, 60031, 60033 through 60036 inclusive, 60038 through 60042 inclusive, 60044, 60046 through 60048 inclusive, 60050 through 60055 inclusive, 60058 through 60060 inclusive, 60062 through 60067 inclusive, 60069 through 60071 inclusive, 60073 through 60086 inclusive, and 60088 through 60101 inclusive.

(d) Subject

Air Transport Association (ATA) of America Code 57, Wings.

(e) Unsafe Condition

This AD was prompted by reports of missing or damaged inboard flap seal plates. The FAA is issuing this AD to address the unsafe condition, which could result in the partial or total detachment of the flap seal plate. Under certain flight conditions, a missing inboard flap seal plate could lead to excessive buffeting and vibration, and consequent damage to the airplane.

(f) Compliance

Comply with this AD within the compliance times specified, unless already done.

(g) Detailed Inspection

At the applicable time specified in figure 1 to paragraph (g) of this AD, perform a detailed inspection for cracks of the attaching angles of the inboard flap seal plates, in accordance with Section 2.B. (Part A) of the Accomplishment Instructions of Bombardier Service Bulletin 700-27-5509 or 700-27-6509, both Revision 01, both dated May 5, 2023; as applicable, except do corrective actions as specified in paragraph (h) of this AD.

Figure 1 to Paragraph (g)—Compliance Requirements

(h) Corrective Actions for Inboard Flap Seal Plates

(1) If no crack is found during any inspection required by paragraph (g) of this AD, repeat the inspection thereafter at intervals not to exceed 250 flight hours, except as specified in paragraph (i) of this AD.

(2) If any crack is found during any inspection required by paragraph (g) of this AD, do the actions specified in paragraph (i) of this AD before further flight.

(i) Replacement of Inboard Flap Seal Plates

Unless already done as specified in paragraph (h)(2) of this AD: Within 12 months after the effective date of this AD, do the actions specified in paragraphs (i)(1) through (3) of this AD, in accordance with Section 2.C. (Part B) of the Accomplishment Instructions of Bombardier Service Bulletin 700-27-5509 or 700-27-6509, both Revision 01, both dated May 5, 2023; as applicable.

(1) Replace the inboard flap seal plates with redesigned plates.

(2) Do a detailed visual inspection for damage of the flap inboard closing ribs and trailing edges.

(3) Do an eddy current or liquid penetrant inspection for cracks running out of the flap inboard closing rib holes common to the outboard stiffener and angle.

(j) Repair for Flap Inboard Closing Ribs and Trailing Edges

If any crack or other damage is found during any inspection required by paragraph (i)(2) or (3) of this AD, repair before further flight using a method approved by the Manager, International Validation Branch, FAA; or Transport Canada; or Bombardier, Inc.'s Transport Canada Design Approval Organization (DAO). If the method is approved by the DAO, the approval must include the DAO-authorized signature.

(k) Terminating Action for Repetitive Inspections

Accomplishment of the actions required by paragraph (i) of this AD terminates the requirements of paragraph (h)(1) of this AD.

(l) Credit for Previous Actions

This paragraph provides credit for actions required by this AD, if those actions were performed before the effective date of this AD using Bombardier Service Bulletin 700-27-5509 or 700-27-6509, both dated October 4, 2022.

(m) No Reporting Requirement

Although Bombardier Service Bulletins 700-27-5509 and 700-27-6509, both Revision 01, both dated May 5, 2023; specify to submit certain information to the manufacturer, this AD does not include that requirement.

(n) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (o)(1) of this AD. Information may be emailed to: 9-AVS-NYACO-COS@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(o) Additional Information

(1) For more information about this AD, contact Yaser Osman, Aviation Safety Engineer, FAA, 1600 Stewart Avenue, Suite 410, Westbury, NY 11590; telephone 516-228-7300; email 9-avs-nyaco-cos@faa.gov.

(2) Material identified in this AD that is not incorporated by reference is available at the address specified in paragraph (p)(3) of this AD.

(p) Material Incorporated by Reference

(1) The Director of the Federal Register approved the incorporation by reference (IBR) of the material listed in this paragraph under 5 U.S.C. 552(a) and 1 CFR part 51.

(2) You must use this material as applicable to do the actions required by this AD, unless this AD specifies otherwise.

(i) Bombardier Service Bulletin 700-27-5509, Revision 01, dated May 5, 2023.

(ii) Bombardier Service Bulletin 700-27-6509, Revision 01, dated May 5, 2023.

(3) For Bombardier material identified in this AD, contact Bombardier Business Aircraft Customer Response Center, 400 Côte-Vertu Road West, Dorval, Québec H4S 1Y9, Canada; telephone 514-855-2999; email ac.yul@aero.bombardier.com; website bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on August 1, 2024.
Victor Wicklund,
Deputy Director, Compliance & Airworthiness Division, Aircraft Certification Service.

[FR Doc. 2024-17455 Filed 8-8-24; 8:45 am]

BILLING CODE 4910-13-P